DEPARTMENT OF TRANSPORTATION

Federal Railroad Administration

Notice of Funding Availability and Solicitation of Applications for Grants Under the Railroad Rehabilitation and Repair Grant Program

AGENCY: Federal Railroad Administration (FRA), Department of Transportation (DOT).

ACTION: Notice of funding availability; solicitation of applications.

SUMMARY: Under this Notice, the FRA encourages interested State departments of transportation to submit applications for grants to repair and rehabilitate Class II and Class III railroad infrastructure damaged by hurricanes, floods, and other natural disasters in areas for which the President declared a major disaster after January 1, 2008, under Title IV of the Robert T. Stafford Disaster Relief and Emergency Assistance Act of 1974. The funding opportunities described in this notice are available under Catalog of Federal Domestic Assistance (CFDA) number 20.314.

DATES: FRA will begin accepting grant applications on November 6, 2013. Applications may be submitted until 5 p.m. EST, December 9, 2013. FRA reserves the right to modify this deadline.

ADDRESSES: Applications for grants under this Program must be submitted electronically to “Grants.gov” at http://www.grants.gov. Grants.Gov allows organizations to find and apply electronically for competitive grant opportunities from all Federal grant-making agencies. Any State wishing to submit an application pursuant to this notice should immediately initiate the process of registering with Grants.Gov.

For application materials that an applicant is unable to submit via Grants.Gov (such as oversized engineering drawings), applicants may submit an original and two (2) copies to FRA at the following address: Federal Railroad Administration, Attention: Katy Bryant, Office of Passenger and Freight Programs, 1200 New Jersey Avenue SE., Mail Stop 20,Washington, DC 20590.

FOR FURTHER INFORMATION CONTACT: Mary Ann McNamara, Office of Passenger and Freight Programs, Federal Railroad Administration, 1200 New Jersey Avenue SE., Mail Stop 20, Washington, DC 20590; Phone: (202) 493-6393; Fax: (202) 493-6333.

SUPPLEMENTARY INFORMATION: There is approximately $1,870,000 available in the Railroad Rehabilitation and Repair Grant Program, which was originally supported with up to $20,000,000 of Federal funds provided to FRA as part of the Consolidated Security, Disaster Assistance, and Continuing Appropriations Act, 2009 (Pub. L.110-329, September 30, 2008) (the Act). On November 6, 2008, FRA issued a Notice of Funding Availability (NOFA) soliciting applications for grants to fund eligible projects. FRA received applications and evaluated them according to criteria described in the notice. Based on the applications submitted and the subsequent evaluations, FRA selected projects totaling approximately $15,000,000 under this Program. Then on October 7, 2009, FRA issued another NOFA for the remaining $5,000,000. FRA received applications and evaluated them according to criteria described in the notice and subsequently selected 10 additional projects to receive funding. Due to a variety of factors, such as projects completed under their awarded amount, FRA has approximately $1,870,000 in funds remaining for this program.

Purpose: Funds provided under this Program will assist Class II and Class III railroads recover from disasters declared between January 1, 2008 and the publication date of this notice of funding availability.

Authority: The Consolidated Security, Disaster Assistance, and Continuing Appropriations Act, 2009 (Pub. L. 110-329, September 30, 2008).

Funding: Approximately $1,870,000 of the $20,000,000 originally appropriated remains available until expended. The Act directs the Secretary of Transportation to competitively award grants covering up to 80 percent of project costs. The remaining grantee match should be provided in non-Federal cash, equipment, or supplies. The funding provided for these grants will be made available to the grantee(s) on a reimbursable basis. It is anticipated that the available funding could support projects proposed by multiple applicants. FRA may choose to award a grant or grants in any amount within the limit of the available funds. The grantees must exhaust all other Federal and State resources prior to seeking assistance under this Program.

Schedule for Railroad Rehabilitation and Repair Grant Program: FRA will begin accepting grant applications on November 6, 2013. All applications must be received by 5:00 p.m. EST, December 9, 2013.

Eligible Applicants: The department of transportation of any eligible State may apply for funding under this notice, provided that the applicant State has an eligible project and has exhausted all other Federal and State resources prior to seeking assistance under this Program.

Eligible Projects: To be eligible for funding under this Program, a project must include the rehabilitation and repair of Class II or Class III railroad infrastructure damaged by hurricanes, floods, and other natural disasters in counties for which the President declared a major disaster under Title IV of the Robert T. Stafford Disaster Relief and Emergency Assistance Act of 1974 between January 1, 2008 and the date of the publication of this notice in the Federal Register (http://www.fema.gov/news/disasters.fema#sev1). Rehabilitation or repairs must be made to rights-of-way, bridges, signals, and other infrastructure which are part of the general railroad system of transportation and primarily used by railroads to move freight traffic.

Funding Period: Funds will be available under this program only for the reimbursement of costs incurred after a major disaster declaration that was made between January 1, 2008 and the date of the publication of this notice of funding availability in the counties covered by such a declaration.

Selection Criteria: FRA will consider the following selection factors in evaluating applications for grants under this Program:

1. The inability of the Class II or Class III railroad to fund the project without Federal funding under the Railroad Rehabilitation and Repair Grant Program, including the applicant demonstrating that it has exhausted all other Federal and State resources.

2. The effects on rail operations, specifically the movement of freight, of the proposed rehabilitation or repair.

3. The likelihood of the continued railroad operations on the track that is proposed to be repaired or rehabilitated for more than three years after project work is complete.

Required Grant Application Documents: Applications are required to contain the following documents:

1. Project Narrative/Statement of Work (additional instructions below);

2. Detailed Budget (additional instructions below);

3. SF 424: Application for Federal Assistance (available at http://www.fra.dot.gov/Page/P0267);

4. SF 424C: Budget Information-Construction (available at http://www.fra.dot.gov/Page/P0267);

5. SF 424D: Assurances-Construction (available at http://www.fra.dot.gov/Page/P0267);

6. SF LLL: Disclosure of Lobbying Activities (available at http://www.whitehouse.gov/sites/default/files/omb/grants/sflllin.pdf);

7. A copy of the applicant's most recent audit performed in compliance with OMB Circular A-133, if available (information on Circular A-133 can be found at http://www.whitehouse.gov/omb/circulars/a133/a133.html); and

8. FRA's Additional Assurance and Certifications (available at http://www.fra.dot.gov/eLib/Details/L02985).

Project Narrative/Statement of Work: The following points describe the minimum content which will be required in the Project Narrative/Statement of Work elements of grant applications. These requirements must be satisfied through a narrative statement submitted by the applicant, and may be supported by spreadsheet documents, tables, drawings, and other materials, as appropriate. FRA recommends that applicants read this section carefully and submit all required information. If an application does not address each of these requirements to FRA's satisfaction, the application may be considered incomplete and removed from consideration for award. Each Project Narrative/Statement of Work must:

1. Designate a point of contact for the applicant and provide his or her name, title, and contact information, including phone number, mailing address and email address. The point of contact must be an employee of the applicant (i.e. a State employee).

2. Include an explanation of why the project is an eligible project (including the Federal Emergency Management Agency disaster declaration number, which is listed at http://www.fema.gov/news/disasters.fema#sev1) and a thorough discussion of how the project meets all of the selection criteria described above. Applicants should note that FRA evaluates applications based upon the selection criteria. If an application does not sufficiently address the selection criteria, FRA will have little or no basis on which to evaluate the application; thus, it will likely not be a competitive application.

3. In responding to the first selection criteria listed above, applicants must identify all funds (including amounts) received from other Federal and/or State disaster relief programs that directly benefited the project(s) for which funds are being sought under this Program, or demonstrate that all such efforts at procuring such funding have failed or been exhausted. This demonstration should include a recitation of specific Federal and State disaster relief programs investigated by the applicant. Among the Federal programs which the applicant might investigate are those administered by the Federal Emergency Management Agency, the Small Business Administration, the Federal Highway Administration, and the U.S. Department of Agriculture.

4. Provide an overview of all work done to date to rehabilitate and repair damage caused by the natural disaster.

5. Provide a detailed description of the scope of work for the proposed project and include the anticipated, or actual, project schedule. Describe the proposed project's physical location, mile-post limits, and include any drawings, plans, or schematics that have been prepared relating to the proposed project.

If funding requested under this Program is only going to support a portion of the overall rehabilitation and repair of the applicant's project, describe the complete project and specify which portion will involve Federal funding. In addition, FRA strongly encourages applicants to estimate total project costs and explain how the affected Class II and Class III railroad will finance the completed project.

6. Describe the source and amount of non-Federal funds, broken down by cash, equipment, or supplies.

7. Describe proposed project implementation and an overview of project management arrangements. Include descriptions of expected arrangements for project contracting, contract oversight, change-order management, risk management, and conformance to Federal requirements for project progress reporting (described in Appendices 1 and 2).

8. For the railroad(s) operating on the infrastructure proposed to be rehabilitated or repaired, describe the frequency of service, axle-load limits, and estimated railroad gross ton miles per mile for the first full year after completion of the project.

9. Describe the status or progress toward completing any environmental documentation or clearance for the proposed project under the National Environmental Policy Act, the National Historic Preservation Act, section 4(f) of the DOT Act, or other applicable federal or state environmental impact assessment laws. FRA's Procedures for Considering Environmental Impacts (64 FR 28545) (May 26, 1999) (http://www.fra.dot.gov/Page/P0215) describe FRA's process for the assessment of environmental impacts and the preparation and processing of appropriate documents. For projects that may be categorically excluded from detailed environmental review, as discussed in FRA's Procedures, categorical exclusion worksheets are available at: http://www.fra.dot.gov/Page/P0550. Applicants are encouraged to contact FRA as early as possible in the environmental/historic preservation review process to discuss the environmental review.

Detailed Budget: Applicants must present a detailed budget for the proposed project that includes both Federal funds and matching funds. Items of cost included in the budget must be reasonable, allocable and necessary for the project. The budget for the cost of the project should separate the total cost of the project into the following categories, if applicable: (1) Administrative and legal expenses; (2) Land, structures, rights-of-way, and appraisals; (3) Relocation expenses and payments; (4) Architectural and engineering fees; (5) Project inspection fees; (6) Site work; (7) Demolition and removal; 8) Construction labor, supervision, management, and materials, by type (e.g. ties, rail, signals, switches); (9) Equipment; (10) Miscellaneous; and (11) Contingencies. Costs may be reimbursed as long as expenditures were incurred after the date of the natural disaster. Additional information on project budgets is contained in Appendix 3.

Format: Excluding spreadsheets, drawings, and tables, the Project Narrative/Statement of Work for grant applications may not exceed twenty-five pages in length. With the exclusion of oversized engineering drawings (which may be submitted in hard copy to the FRA at the address indicated above), all application materials should be submitted as attachments through Grants.Gov. Spreadsheets consisting of budget or financial information should be submitted via Grants.Gov as Microsoft Excel (or compatible) documents.

Labor Standards: The Act requires that all grantees comply with the Davis-Bacon Act (40 U.S.C. 3141 et seq.) as provided for in 49 U.S.C. 24312. The Davis-Bacon Act is a measure that fixes a floor under wages on Federal government projects and provides, in pertinent part, that the minimum wages to be paid for classes of workers under a contract for the construction, alteration, and/or repair of a Federal public building or public work must be based upon wage rates determined by the Secretary of Labor to be prevailing for corresponding classes of workers employed on projects of a character similar to the contract work in the civil subdivision of the State in which the work is to be performed.

Award Notices: Applications selected for funding will be announced after the application review period. FRA will contact applicants with successful applications after announcement with information and instructions about the award process. Notification of a selected application is not an authorization to begin proposed project activities. The period of performance for this grant program is dependent on the project. However, any unobligated funds will be deobligated 120 days after the period of performance end date of the grant, as described in Appendix 2.4. Extensions to the period of performance will be considered only through written requests to FRA with specific and compelling justifications for why an extension is required.

Appendix 1: Administrative and National Policy Requirements

Appendix 1.1 Standard Financial and Program Administration Requirements

Grant recipients must follow all standard financial and program administration requirements, including:

Administrative Requirements

• 49 CFR Part 18, Uniform Administrative Requirements for Grants and Cooperative Agreements to State and Local Governments

• 49 CFR Part 19, Uniform Administrative Requirements for Grants and Cooperative Agreements with Institutions of Higher Education, Hospitals, and Other Non-Profit Organizations (OMB Circular A-110)

Cost Principles

• 2 CFR Part 225, Cost Principles for State, Local, and Indian Tribal Governments (OMB Circular A-87)

• 2 CFR Part 220, Cost Principles for Educational Institutions (OMB Circular A-21)

• 2 CFR Part 230, Cost Principles for Non-Profit Organizations (OMB A-122)

• Federal Acquisition Regulations (FAR), Part 31.2 Contract Cost Principles and Procedures, Contracts with Commercial Organizations

Audit Requirements

• OMB Circular A-133, Audits of States, Local Governments, and Non-Profit Organizations

Appendix 1.2 Administrative and National Policy Requirements

Grant recipients must follow all administrative and national policy requirements including: Procurement standards, compliance with Federal civil rights laws and regulations, disadvantaged business enterprises (DBE), debarment and suspension, drug-free workplace, FRA's and OMB's Assurances and Certifications, Americans with Disabilities Act (ADA), environmental protection, National Environmental Policy Act (NEPA), and environmental justice.

Appendix 1.3 Freedom of Information Act (FOIA)

As a Federal agency, FRA is subject to the Freedom of Information Act (FOIA) (5 U.S.C. 552), which generally provides that any person has a right, enforceable in court, to obtain access to Federal agency records, except to the extent that such records (or portions of them) are protected from public disclosure by one of nine exemptions or by one of three special law enforcement record exclusions. Grant applications and related materials submitted by applicants pursuant to this guidance will become agency records, and thus are subject to the FOIA and to public release through individual FOIA requests. FRA also recognizes that certain information submitted in support of an application for funding in accordance with this guidance could be exempt from public release under FOIA as a result of the application of one of the FOIA exemptions, most particularly Exemption 4, which protects trade secrets and commercial or financial information obtained from a person that is privileged or confidential (5 U.S.C. 552(b)(4)). In the context of this grant program, commercial or financial information obtained from a person could be confidential if disclosure is likely to cause substantial harm to the competitive position of the person from whom the information was obtained (see National Parks & Conservation Association v. Morton, 498 F.2d 765, 770 (D.C. Cir. 1974)). Entities seeking exempt treatment must provide a detailed statement supporting and justifying the request and should follow FRA's existing procedures for requesting confidential treatment in the railroad safety context found at 49 CFR 209.11. As noted in the Department's FOIA implementing regulation (49 CFR part 7), the burden is on the entity requesting confidential treatment to identify all information for which exempt treatment is sought and to persuade the agency that the information should not be disclosed (see 49 CFR 7.17). The final decision as to whether the information meets the standards of Exemption 4 rests with FRA.

Appendix 2: Additional Information on Award Administration and Grant Conditions

Appendix 2.1 Reporting Requirements

Reporting requirements must be met throughout the life of the grant (additional detail will be included in the award package provided to selected applicants).

• Progress Reports—Progress reports are to be submitted quarterly. These reports must relate the state of completion of items in the Statement of Work to expenditures of the relevant budget elements. The grant recipient must furnish the quarterly progress report to the FRA on or before the 30th calendar day of the month following the end of the quarter being reported. Grantees must submit reports for the periods: January 1-March 31, April 1-June 30, July 1-September 30, and October 1-December 31. Each quarterly report must set forth concise statements concerning activities relevant to the project, and should include, but not be limited to, the following: (a) An account of significant progress (findings, events, trends, etc.) made during the reporting period; (b) a description of any technical and/or cost problem(s) encountered or anticipated that will affect completion of the grant within the time and fiscal constraints as set forth in the agreement, together with recommended solutions or corrective action plans (with dates) to such problems, or identification of specific action that is required by the FRA, or a statement that no problems were encountered; and (c) an outline of work and activities planned for the next reporting period.

• Quarterly Federal Financial Report (SF-425)—The Grantee must submit a quarterly Federal financial report electronically in FRA's web-based grant management system, GrantSolutions, on or before the thirtieth (30th) calendar day of the month following the end of the quarter being reported (e.g., for quarter ending March 31, the SF-425 is due no later than April 30). A report must be submitted for every quarter of the period of performance, including partial calendar quarters, as well as for periods where no grant activity occurs. The Grantee must use SF-425, Federal Financial Report, in accordance with the instructions accompanying the form, to report all transactions, including Federal cash, Federal expenditures and unobligated balance, recipient share, and program income.

• Interim Report(s)—If required, interim reports will be due at intervals specified in the Statement of Work and must be submitted to FRA.

• Final Report(s)—Within 90 days after the period of performance end date of the grant or termination by FRA, the Grantee must submit a Summary Project Report in the GrantSolutions system. This report should detail the results and benefits of the Grantee's improvement efforts.

• Reports, Presentations and Other Deliverables—Whether for technical examination, administrative review, or publication, all submittals shall be of a professional quality and suitable for their intended purpose. Due dates for submittals shall be based on the specified intervals or days from the effective date of the agreement.

Appendix 2.2 Audit Requirements

Grant recipients that expend $500,000 or more of Federal funds during their fiscal year, combined from all sources, are required to submit an organization-wide financial and compliance audit report. The audit must be performed in accordance with U.S. General Accountability Office, Government Auditing Standards, located at http://www.gao.gov/govaud/ybk01.htm, and OMB Circular A-133, Audits of States, Local Governments, and Non-Profit Organizations, located at http://www.whitehouse.gov/omb/circulars/a133/a133.html. Currently, audit reports must be submitted to the Federal Audit Clearinghouse no later than nine months after the end of the recipient's fiscal year. In addition, FRA and the Comptroller General of the United States must have access to any books, documents, and records of grant recipients for audit and examination purposes. The grant recipient will also give FRA or the Comptroller, through any authorized representative, access to, and the right to examine all records, books, papers or documents related to the grant. Grant recipients must require that sub-grantees comply with the audit requirements set forth in OMB Circular A-133. Grant recipients are responsible for ensuring that sub-recipient audit reports are received and for resolving any audit findings.

Appendix 2.3 Monitoring Requirements

Grant recipients will be monitored periodically by FRA to ensure that the project goals, objectives, performance requirements, timelines, milestones, budgets, and other related program criteria are being met. FRA may conduct monitoring activities through a combination of office-based reviews and onsite monitoring visits. Monitoring will involve the review and analysis of the financial, programmatic, and compliance issues relative to each program and will identify areas where technical assistance and other support may be needed. The recipient is responsible for monitoring award activities, including sub-awards and sub-grantees, to provide reasonable assurance that the award is being administered in accordance with Federal requirements. Financial monitoring responsibilities include the accounting of recipients and expenditures, cash management, maintaining of adequate financial records, and refunding expenditures disallowed by audits.

Appendix 2.4 Closeout Process

Project closeout occurs when all required project work and all administrative procedures described in 49 CFR section 262.19, as applicable, have been completed, and when FRA notifies the grant recipient and forwards the final Federal assistance payment, or when FRA acknowledges the grant recipient's remittance of the proper refund. Project closeout should not invalidate any continuing obligations imposed on the Grantee by an award or by the FRA's final notification or acknowledgment. Within 90 days after the period of performance end date of the grant or termination by FRA, grantees agree to submit a final Federal Financial Report (SF-425), a certification or summary of project expenses, a final report, and third party audit reports, as applicable.

Appendix 3: Additional Information on Applicant Budgets

The information contained in this appendix is intended to assist applicants with developing the SOW budget and OMB Standard Form 424C: Budget Information—Construction Programs. Applicants must present a detailed budget for the proposed project that includes both Federal funds and matching funds. Items of cost included in the budget must be reasonable, allocable, and necessary for the project. At a minimum, the budget should separate total cost of the project into the following categories and provide a basis of computation for each cost:

• Administrative and Legal Expenses: List the estimated amounts needed to cover administrative expenses. Do not include costs which are related to the normal functions of government. Allowable legal costs are generally only those associated with the purchases of land which is allowable for Federal participation and certain services in support of construction of the project. This may include:

○ Hours/Rate and total cost of local government staff

○ Hours/Rate and total cost of outside counsel fees

○ Hours/Rate and total cost of consultants

• Land, structures, rights-of-way, appraisals, and related items: List the estimate site and right(s)-of-way acquisition costs (this includes purchase, lease, and/or easements). If possible, include details of number of acres, acre cost, square-footage, and square footage cost.

• Relocation expenses and payments: List the estimated costs relation to relocation advisory assistance, replacement of housing, relocation payments to displaces persons and businesses, etc. This may include:

○ The gross salaries and wages of employees for the grantee who will be directly engaged in performing demolition or removal of structures from developed land

• Architectural and engineering fees: List the estimated basic engineering fees related to construction (this includes start-up services and preparation of project performance work plan).

• Other architectural and engineering fees: List the estimated engineering costs, such as surveys, tests, soil borings, etc.

• Project inspection fees: List the estimated engineering inspection costs. This may include:

○ Rate of project inspector

○ Construction monitoring

○ Audit or construction programs

• Site Work: List the estimated costs of site preparation and restoration which are not included in the basic construction contract. This may include:

○ Clearing

○ Erosion control

○ Reseeding

• Demolition and removal: List the estimated costs related to demolition activities.

• Construction: List the estimated cost of the construction contract. This may include costs for:

○ Labor costs, e.g., associated with site preparation and installation of grade crossings, highway warning signs, etc.

○ Equipment rental/purchase, e.g., an excavator or bulldozer

○ Materials, e.g., Rail anchors, retaining walls, etc.

• Equipment: List the estimated cost of office, shop, laboratory, safety equipment, etc. to be used at the facility, if such costs are not included in the construction contract.

• Miscellaneous: List the estimated miscellaneous costs.

• Contingencies: List the estimated contingency costs.

Issued in Washington, DC, on October 29, 2013.
Corey Hill,
Director, Office of Passenger and Freight Programs.

[FR Doc. 2013-26081 Filed 10-30-13; 8:45 am]

BILLING CODE 4910-06-P